DEPARTMENT OF HEALTH AND HUMAN SERVICES

Food and Drug Administration

21 CFR Part 73

[Docket No. 97C-0466]

Listing of Color Additives Exempt From Certification; Phaffia Yeast; Confirmation of Effective Date

AGENCY: Food and Drug Administration, HHS.

ACTION: Final rule; confirmation of effective date.

SUMMARY: The Food and Drug Administration (FDA) is confirming the effective date of August 8, 2000, for the final rule that appeared in the Federal Register of July 6, 2000 (65 FR 41584), and that amended the color additive regulations to provide for the safe use of phaffia yeast as a color additive in the feed of salmonid fish to enhance the color of their flesh.

DATES: Effective date confirmed: August 8, 2000.

FOR FURTHER INFORMATION CONTACT: Aydin Örstan, Center for Food Safety and Applied Nutrition (HFS-215), Food and Drug Administration, 200 C St. SW., Washington, DC 20204, 202-418-3076.

SUPPLEMENTARY INFORMATION: In the Federal Register of July 6, 2000 (65 FR 41584), FDA amended the color additive regulations to add new § 73.355 Phaffia yeast (21 CFR 73.355) to provide for the safe use of phaffia yeast as a color additive in the feed of salmonid fish to enhance the color of their flesh.

FDA gave interested persons until August 7, 2000, to file objections or requests for a hearing. The agency received no objections or requests for a hearing on the final rule. Therefore, FDA finds that the effective date of the final rule that published in the Federal Register of July 6, 2000, should be confirmed.

List of Subjects in 21 CFR Part 73

Color additives, Cosmetics, Drugs, Foods, Medical devices.

Therefore, under the Federal Food, Drug, and Cosmetic Act (21 U.S.C. 321, 341, 342, 343, 348, 351, 352, 355, 361, 362, 371, 379e) and under authority delegated to the Commissioner of Food and Drugs (21 CFR 5.10), notice is given that no objections or requests for a hearing were filed in response to the July 6, 2000, final rule. Accordingly, the amendments issued thereby became effective August 8, 2000.

Dated: September 29, 2000.
Margret M. Dotzel,
Associate Commissioner for Policy.

[FR Doc. 00-25704 Filed 10-5-00; 8:45 am]

BILLING CODE 4160-01-F